DEPARTMENT OF HOUSING AND URBAN DEVELOPMENT

[Docket No. FR-6347-N-01]

The Performance Review Board

AGENCY: Office of the Deputy Secretary, HUD.

ACTION: Notice of appointments.

SUMMARY: The Department of Housing and Urban Development announces the establishment of the Departmental Performance Review Board (PRB) to make recommendations to the appointing authority on the performance and compensation of its Senior Executive Service (SES), Senior Level (SL) and Senior Technical (ST) professionals. This notice lists the persons that may be named to serve on the PRB from 2022 to 2024.

FOR FURTHER INFORMATION CONTACT: Selina M. Swales, Director, Office of Executive Resources, Department of Housing and Urban Development, Washington, DC 20410, telephone (202) 402-3450. (This is not a toll-free number). Persons with hearing or speech impairments may access these numbers via TTY by calling the Federal Relay Service at 800-877-8339 (this is a toll-free number).

SUPPLEMENTARY INFORMATION: The following persons may be named to serve on the PRB from 2022 to 2024. They are listed by type of appointment, name, and official title.

Name | Official title
CAREER SES
BETTS, SUSAN A | DEPUTY ASSISTANT SECRETARY FOR FINANCE AND BUDGET.
BLOM, DOMINQUE G | GENERAL DEPUTY ASSISTANT SECRETARY FOR PUBLIC AND INDIAN HOUSING.
BOHLING, GAYLE E | DEPUTY GENERAL COUNSEL FOR OPERATIONS.
BROWN, AMY L | DEPUTY GENERAL COUNSEL FOR HOUSING PROGRAMS.
BRYON, JEMINE A | DEPUTY ASSISTANT SECRETARY FOR SPECIAL NEEDS PROGRAMS.
CLEMMENSEN, CRAIG T | DIRECTOR, DEPARTMENTAL ENFORCEMENT CENTER.
COOKE JR., KEVIN R | CHIEF FOIA AND PRIVACY OFFICER.
COOPER-JONES, BARBARA | SENIOR VICE PRESIDENT, OFFICE OF ENTERPRISE DATA AND TECHNOLOGY SOLUTIONS.
CORSIGLIA, NANCY E | SENIOR ADVISOR.
DAUGHERTY, JOHN T | SENIOR VICE PRESIDENT, OFFICE OF SECURITY.
DAVIS, THOMAS R | DIRECTOR, OFFICE OF RECAPITALIZATION AND DEVELOPMENT.
DRAYNE, MICHAEL R | SENIOR VICE PRESIDENT, STRATEGIC PLANNING AND MANAGEMENT.
FERRY, SHYLON C | DEPUTY ASSISTANT SECRETARY FOR OPERATIONS.
FLEMING-SCOTT, JIMMY | DEPUTY CHIEF PROCUREMENT OFFICER.
FERERO, JAIME E | GENERAL DEPUTY ASSISTANT SECRETARY FOR FAIR HOUSING AND EQUAL OPPORTUNITY.
FORRESTER, ALTHEA M | ASSOCIATE GENERAL COUNSEL FOR ASSISTED HOUSING AND COMMUNITY DEVELOPMENT.
FRECHETTE, HEIDI J | DEPUTY ASSISTANT SECRETARY FOR NATIVE AMERICAN PROGRAMS.
GAITHER, FELICIA R | DEPUTY ASSISTANT SECRETARY FOR FIELD OPERATIONS.
GETCHIS, JOHN F | SENIOR VICE PRESIDENT, OFFICE OF CAPITAL MARKETS.
GOLRICK, JANET A | CHIEF DISASTER AND NATIONAL SECURITY OFFICER.
HADLEY, JOY L | DIRECTOR, OFFICE OF LENDER ACTIVITIES AND PROGRAMS.
HALLIDAY, TOBIAS | DIRECTOR, OFFICE OF ASSET MANAGEMENT AND PORTFOLIO OVERSIGHT.
IJAZ, SAIRAH R | ASSISTANT CHIEF FINANCIAL OFFICER FOR SYSTEMS (FY23).
JOHNSON, CALVIN C | DEPUTY ASSISTANT SECRETARY FOR THE OFFICE OF RESEARCH, EVALUATION AND MONITORING.
KEITH, GREGORY A | SENIOR VICE PRESIDENT AND CHIEF RISK OFFICER.
KOME, JESSE A | DIRECTOR, OFFICE OF BLOCK GRANT ASSISTANCE (FY23).
KORNEGAY, EMILY M | ASSISTANT CHIEF FINANCIAL OFFICER FOR BUDGET.
KUBACKI, MELAJO K | ASSISTANT CHIEF FINANCIAL OFFICER FOR FINANCIAL MANAGEMENT.
LOFINMAKIN, ADETOKUNBO | SENIOR VICE PRESIDENT AND CHIEF FINANCIAL OFFICER.
MONTGOMERY, MATISHA D | CHIEF LEARNING OFFICER (FY23).
MORRIS, VANCE T | ASSOCIATE GENERAL DEPUTY ASSISTANT SECRETARY FOR HOUSING.
NGUYEN, NHEIN T | CHIEF PERFORMANCE OFFICER (FY23).
NIGAM, NITA | ASSISTANT CHIEF FINANCIAL OFFICER FOR ACCOUNTING.
PAO, JEAN LIN | DIRECTOR, OFFICE OF SMALL AND DISADVANTAGED BUSINESS UTILIZATION.
PARKER, TENILLE S | DIRECTOR, DISASTER RECOVERY SPECIAL ISSUES DIVISION (FY23).
PORDZIK, LESLIE A | SENIOR VICE PRESIDENT, MORTGAGED BACKED SECURITIES.
PRESTON, TAWANNA A | SENIOR VICE PRESIDENT OF ADMINISTRATION AND SENIOR ADVISOR TO OFFICE OF THE PRESIDENT.
RICHARDSON, TODD M | GENERAL DEPUTY ASSISTANT SECRETARY FOR POLICY DEVELOPMENT AND RESEARCH.
ROBINSON, JOZETTA M | EXECUTIVE SECRETARIAT (FY23).
SANTA ANNA, AARON | ASSOCIATE GENERAL COUNSEL FOR LEGISLATION AND REGULATIONS (FY23).
SAUNDERS, ELISSA O | DIRECTOR, OFFICE OF SINGLE-FAMILY HOUSING PROGRAMS DEVELOPMENT.
SCOTT, PAUL A | BUSINESS CHANGE AND INTEGRATION OFFICER.
WEBBER, CHRISTOPHER S | PRINCIPAL DEPUTY CHIEF INFORMATION OFFICER.
SANTA ANNA, AARON | ASSOCIATE GENERAL COUNSEL FOR LEGISLATION AND REGULATIONS (FY23).
SAUNDERS, ELISSA O | DIRECTOR, OFFICE OF SINGLE-FAMILY HOUSING PROGRAMS DEVELOPMENT.
SCOTT, PAUL A | BUSINESS CHANGE AND INTEGRATION OFFICER.
WEBBER, CHRISTOPHER S | PRINCIPAL DEPUTY CHIEF INFORMATION OFFICER.
NON-CAREER SES
BROWN, VICTORIA C | DEPUTY CHIEF OF STAFF.
BRUNDAGE, SARAH J | SENIOR ADVISOR FOR HOUSING SUPPLY CONGRESSIONAL AND INTERGOVERNMENTAL RELATIONS.
CARLILE, JOSEPH W | SENIOR ADVISOR BUDGET-POLICY AND PROGRAMS.
CHO, RICHARD S | SENIOR ADVISOR.
GREENE, SOLOMON | PRINCIPAL DEPUTY ASSISTANT SECRETARY FOR POLICY DEVELOPMENT AND RESEARCH.
HANDELMAN, ETHAN D | DEPUTY ASSISTANT SECRETARY FOR MULTIFAMILY HOUSING.
JONES, JENNIFER C | CHIEF OF STAFF.
JOSEPH, JULIENNE Y | DEPUTY ASSISTANT SECRETARY FOR SINGLE-FAMILY HOUSING.
KEEGAN, ROBIN K | DEPUTY ASSISTANT SECRETARY FOR ECONOMIC DEVELOPMENT.
KLUBES, BENJAMIN | PRINCIPAL DEPUTY GENERAL COUNSEL.
MCCAIN, DEMETRIA L | PRINCIPAL DEPUTY ASSISTANT SECRETARY FOR FAIR HOUSING AND EQUAL OPPORTUNITIES.
MCFADDEN, MARION | PRINCIPAL DEPUTY ASSISTANT SECRETARY FOR COMMUNITY PLANNING AND DEVELOPMENT.
METRAKAS, EUGENIA M | CHIEF OPERATIONS OFFICER.
NIBLOCK, ELIZABETH A | CHIEF INFORMATION OFFICER.
PITTMAN, MIA N | DEPUTY ASSISTANT SECRETARY FOR RISK MANAGEMENT AND REGULATORY AFFAIRS.
PEREZ, MICHELE P | ASSISTANT DEPUTY SECRETARY FOR FIELD POLICY AND MANAGEMENT.
SAMBERG-CHAMPION, SASHA M | DEPUTY GENERAL COUNSEL FOR ENFORCEMENT.
TAYLOR, PATRICE D | DEPUTY CHIEF OF STAFF.
VALVERDE, SAM I | EXECUTIVE VICE PRESIDENT AND CHIEF OPERATING OFFICER.

Adrianne R. Todman,
Deputy Secretary.

[FR Doc. 2022-21160 Filed 9-28-22; 8:45 am]

BILLING CODE 4210-67-P